DEPARTMENT OF HOMELAND SECURITY

Transportation Security Administration

Extension of Agency Information Collection Activity Under OMB Review: Aircraft Operator Security

AGENCY: Transportation Security Administration, DHS.

ACTION: 30-Day notice.

SUMMARY: This notice announces that the Transportation Security Administration (TSA) has forwarded the Information Collection Request (ICR), OMB control number 1652-0003, abstracted below to the Office of Management and Budget (OMB) for review and approval of an extension of the currently approved collection under the Paperwork Reduction Act. The ICR describes the nature of the information collection and its expected burden. TSA published a Federal Register notice, with a 60-day comment period soliciting comments, of the following collection of information on January 26, 2012 (77 FR 4055). TSA has implemented aircraft operator security standards at 49 CFR part 1544, which require each aircraft operator to which this part applies to adopt and implement a security program.

DATES: Send your comments by April 30, 2012. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Office of Information Technology, TSA-11, Transportation Security Administration, 601 South 12th Street, Arlington, VA 20598-0011; telephone (571) 227-3616; email joanna.johnson@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Aircraft Operator Security.

Type of Request: Extension of a currently approved collection.

OMB Control Number: 1652-0003.

Forms(s): N/A.

Affected Public: Aircraft Operators.

Abstract: 49 CFR part 1544 requires aircraft operators to maintain, update, and comply with TSA-approved comprehensive security programs to ensure the safety of persons and property traveling on their flights against acts of criminal violence and air piracy, and the introduction of explosives, incendiaries, or weapons aboard an aircraft. These programs and related records are subject to TSA inspection.

Number of Respondents: 801.

Estimated Annual Burden Hours: An estimated 1,918,371 hours annually.

Issued in Arlington, Virginia, March 27, 2012.
Joanna Johnson,
Paperwork Reduction Act Officer, Office of Information Technology.

[FR Doc. 2012-7671 Filed 3-28-12; 8:45 am]

BILLING CODE 9110-05-P